INTERNATIONAL TRADE COMMISSION

[Investigation No. 701-TA-678 (Final)]

Barium Chloride From India

Determination

On the basis of the record ¹ developed in the subject investigation, the United States International Trade Commission (“Commission”) determines, pursuant to the Tariff Act of 1930 (“the Act”), that an industry in the United States is materially injured by reason of imports of barium chloride from India, provided for in subheading 2827.39.45 of the Harmonized Tariff Schedule of the United States, that have been found by the U.S. Department of Commerce (“Commerce”) to be subsidized by the government of India.²

¹ The record is defined in § 207.2(f) of the Commission's Rules of Practice and Procedure (19 CFR 207.2(f)).

² 88 FR 1044 (January 6, 2023).

Background

The Commission instituted this investigation effective January 12, 2022, following receipt of a petition filed with the Commission and Commerce by Chemical Products Corp., Cartersville, Georgia. The Commission scheduled the final phase of the investigation following notification of a preliminary determination by Commerce that imports of barium chloride from India were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of September 7, 2022 (87 FR 54714). The Commission conducted its hearing on January 5, 2023. All persons who requested the opportunity were permitted to participate.

The Commission made this determination pursuant to section 705(b) of the Act (19 U.S.C. 1671d(b)). It completed and filed its determination in this investigation on February 17, 2023. The views of the Commission are contained in USITC Publication 5406 (February 2023), entitled Barium Chloride from India: Investigation No. 701-TA-678 (Final).

By order of the Commission.
Issued: February 17, 2023.
Lisa Barton,
Secretary to the Commission.

[FR Doc. 2023-03757 Filed 2-22-23; 8:45 am]

BILLING CODE 7020-02-P